DEPARTMENT OF THE INTERIOR

Bureau of Indian Affairs

[201A2100DD/AAKC001030/A0A501010.999900 253G]

Notice of Intent To Prepare an Environmental Impact Statement for the Southern Bighorn Solar Project on the Moapa River Indian Reservation, Clark County, Nevada

AGENCY: Bureau of Indian Affairs, Interior.

ACTION: Notice of intent.

SUMMARY: The Bureau of Indian Affairs (BIA), as lead agency, in cooperation with the Moapa Band of Paiute Indians (Moapa Band), the Bureau of Land Management (BLM), and other agencies, intend to prepare an Environmental Impact Statement (EIS) that will evaluate a photovoltaic (PV) solar energy generation and storage projects on the Moapa River Indian Reservation (Reservation) and collector lines and access roads located on the Reservation, Reservation lands administered by BLM, and BLM lands. This notice announces the beginning of the scoping process to solicit public comments and identify potential issues related to the EIS. It also announces that two live streaming events will be held where the project team will introduce the project and be available by internet and by phone to document and discuss potential issues, alternatives, and mitigation to be considered in the EIS.

DATES: Written comments on the scope of the EIS or implementation of the proposal must arrive by 11:59 p.m. on June 8, 2020. The dates and times of the virtual public scoping meetings will be published in the Las Vegas Review-Journal and Moapa Valley Progress 15 days before the scoping meetings.

ADDRESSES: You may mail, email, or hand carry written comments to Mr. Chip Lewis, BIA Western Regional Office, 2600 North Central Avenue, 4th Floor Mailroom, Phoenix, Arizona 85004; telephone: (602) 379-6750; email: Chip.Lewis@bia.gov.

SUPPLEMENTARY INFORMATION: The proposed Federal action, taken under 25 U.S.C. 415, is the BIA's approval of two solar energy ground leases and associated agreements entered into by the Moapa Band with 300MS 8me LLC and 425LM 8me LLC (Applicants), both subsidiaries of 8minute Solar Energy. The agreements provide for construction, operation and maintenance (O&M), and eventual decommissioning of the PV electricity generation and battery storage facilities located entirely on the Reservation, in Clark County Nevada. The PV electricity generation and battery storage facilities would be located on up to 3,600 acres of tribal trust land and would have a combined capacity of up to 400 megawatts alternating current (MWac)—300 MWac for one project/phase, and 100 MWac for a second project/phase. Collector lines and access roads required for interconnection of the solar projects would be located on the Reservation, Reservation lands administered by the BLM, and BLM lands. Together, the proposed solar energy generation and storage facilities, collector lines, and other associated facilities will make up the two projects/phases of the Southern Bighorn Solar Project (SBSP). The proposed SBSP would require the BIA to approve a business lease and for both the BIA and the BLM to approve and authorize rights-of-way (ROWs) for the electrical collector lines and access roads.

The SBSP would be constructed on up to 3,600 acres located within a 6,308-acre lease option area in Township (T) 16 South (S), Range (R) 64 East (E) that includes all or parts of Sections 12-14, 22-27, and 33-36; T16S R65E Sections 4-9, 16-18, 30, and 31; and T17S R64E Sections 10-12, Mount Diablo Baseline and Meridian, Nevada. Primary access to the Project would be provided by I-15, North Las Vegas Boulevard, and an existing improved access road on Reservation lands, Reservation lands administered by the BLM, and BLM lands. The overhead collector lines would connect the solar projects to the substation(s) within the boundaries of the previously approved Eagle Shadow Mountain Solar Project. From there, the electricity generated would connect to the existing gen-tie line and be delivered to the regional electrical grid at NV Energy's Reid Gardner Substation.

Construction of the 300MWac project/phase is expected to take approximately 14-16 months, and construction of the up to 100MWac project/phase is expected to take approximately 8-10 months. The two projects/phases may be constructed simultaneously or sequentially. The electricity generation and storage facilities are expected to be operated for up to 40 years under the terms of the leases. Major onsite facilities include multiple blocks of solar PV panels mounted on fixed tilt or tracking systems, pad mounted inverters and transformers, collector lines, up to 1,000 MW-hours of battery storage, access roads, and O&M facilities. Water will be needed during construction for dust control and a minimal amount will be needed during operations for administrative and sanitary water use and for panel washing. The water supply required for the Project would be leased from the Moapa Band.

The purposes of the proposed Project are, among other things, to: (1) Provide a long-term, diverse, and viable economic revenue base and job opportunities for the Moapa Band; (2) assist Nevada and neighboring states to meet their State renewable energy needs; and (3) allow the Moapa Band, in partnership with the Applicant, to optimize the use of the lease site while maximizing the potential economic benefit to the Tribe.

BIA will prepare the EIS in cooperation with the Moapa Band, BLM, Environmental Protection Agency, and possibly Nevada Department of Wildlife. In addition, the U.S. Fish and Wildlife Service (USFWS) and National Park Service will provide input on the analysis. The resulting EIS will aim to (1) provide agency decision makers, the Moapa Band, and the general public with a comprehensive understanding of the impacts of the proposed Project and alternatives on the Reservation; (2) describe the cumulative impacts of increased development on the Reservation; and (3) identify and propose mitigation measures that would minimize or prevent significant adverse impacts. Consistent with these objectives, the EIS will analyze the proposed Project and appurtenant features, viable alternatives, and the No Action alternative. Other alternatives may be identified in response to issues raised during the scoping process.

The EIS will provide a framework for BIA and BLM to make determinations and to decide whether to take the aforementioned Federal actions. In addition, BIA will use and coordinate the National Environmental Policy Act (NEPA) commenting process to satisfy its obligations under Section 106 of the National Historic Preservation Act (16 U.S.C. 470f) as provided for in 36 CFR 800.2(d)(3). Native American tribal consultations will be conducted in accordance with policy, and tribal concerns will be given due consideration, including impacts on Indian trust assets. Other federal agencies may rely on the EIS to make decisions under their authority and the Moapa Band may also use the EIS to make decisions under their Tribal Environmental Policy Ordinance. USFWS will review the EIS for consistency with the Endangered Species Act, as amended, and other implementing acts, and may rely on the EIS to support its decisions and opinions regarding the Project.

Issues to be addressed in the EIS analysis may include, but would not be limited to, Project impacts on water resources, biological resources, threatened and endangered species, cultural resources, Native American religious concerns, and aesthetics. In addition to those resource topics identified above, Federal, State, and local agencies, along with other stakeholders that may be interested or affected by the BIA's decision on the proposed Project, are invited to participate in the scoping process to identify additional issues to be addressed.

Submission of Public Comments

Please include your name, return address, and the caption “EIS, Southern Bighorn Solar Project,” on the first page of any written comments. You may also submit comments verbally during one of the virtual public scoping meeting presentations or provide written comments to the address listed above in the ADDRESSES section.

Public scoping meetings will be held to further describe the Project and identify potential issues and alternatives to be considered in the EIS. To help protect the public and limit the spread of the COVID-19 virus, virtual public meetings will be held, where a short presentation will be made and team members present to discuss and answer questions. The PowerPoint presentation will be posted to the project website prior to the virtual meetings. Those who cannot live stream the presentation would be able to access the meeting presentation and could join by telephone. Additionally, the live presentation will be recorded and made accessible for viewing throughout the scoping period. The first public scoping meeting will be held in the afternoon by video and telephone conference and the second public scoping meeting will be held in the evening by video and telephone conference. The dates and times of the public scoping meetings will be included in notices to be published in the, Las Vegas Review-Journal and Moapa Valley Progress 15 days before the meetings.

Public Comment Availability

Comments, including names and addresses of respondents, will be available for public review at the mailing address shown in the ADDRESSES section during regular business hours, 8 a.m. to 4:30 p.m., Monday through Friday, except holidays. Before including your address, phone number, email address, or other personal identifying information in your comment, you should be aware that your entire comment—including your personal identifying information—may be made publicly available at any time.

Authority

This notice is published in accordance with 40 CFR 1501.7 of the Council of Environmental Quality regulations and 43 CFR 46.235 of the Department of the Interior Regulations implementing the procedural requirements of the NEPA (42 U.S.C. 4321 et seq.), and in accordance with the exercise of authority delegated to the Principal Deputy Assistant Secretary-Indian Affairs by part 209 of the Department Manual.

Tara Sweeney,
Assistant Secretary—Indian Affairs.

[FR Doc. 2020-09831 Filed 5-7-20; 8:45 am]

BILLING CODE 4337-15-P